ENVIRONMENTAL PROTECTION AGENCY

40 CFR Part 52

[IN158-1b; FRL-7626-8]

Approval and Promulgation of Implementation Plans; Indiana

AGENCY: Environmental Protection Agency (EPA).

ACTION: Proposed rule.

SUMMARY: We are proposing to approve revisions to particulate matter (PM10) emissions regulations for U.S. Steel-Gary Works and U.S. Steel-Gary Coke Operations, located in Lake County, Indiana. The Indiana Department of Environmental Management requested on June 13, 2003, and as supplemented on October 3, 2003, that EPA approve this State Implementation Plan (SIP) revision, as an amendment to 326 Indiana Administrative Code (IAC) 6-1-10.1 and 326 IAC 6-1-10.2. The revisions to the rules reflect the closure of certain emission units, the addition of new emission units, and the installation of new control systems. These changes should result in decreased PM10 emissions of approximately 350 tons per year. In the final rules section of this Federal Register, EPA is approving the State's SIP revision as a direct final rule without prior proposal because the Agency views this as a noncontroversial revision and anticipates no adverse comments. A detailed rationale for the approval is set forth in the direct final rule. If we receive no adverse comments in response to that direct final rule, we plan to take no further action on this proposed rule. If we receive significant adverse comments, we will withdraw the direct final rule and address all public comments received in a subsequent final rule based on this proposed rule. The EPA will not institute a second comment period on this document.

DATES: EPA must receive written comments on or before April 21, 2004.

ADDRESSES: Send written comments to: J. Elmer Bortzer, Acting Chief, Air Programs Branch, (AR-18J), Environmental Protection Agency, Region 5, 77 West Jackson Boulevard, Chicago, Illinois 60604.

Comments may also be submitted electronically or through hand delivery/courier, please follow the detailed instructions described in part(I)(B)(1)(i) through (iii) of the SUPPLEMENTARY INFORMATION section.

FOR FURTHER INFORMATION CONTACT: Christos Panos, Environmental Engineer, Criteria Pollution Section, Air Programs Branch (AR-18J), Environmental Protection Agency, Region 5, 77 West Jackson Boulevard, Chicago, Illinois 60604, (312) 353-8328, panos.christos@epa.gov.

SUPPLEMENTARY INFORMATION: For additional information, see the direct final notice which is located in the rules section of this Federal Register. Copies of the request and the EPA's analysis are available for inspection at the above address. (Please telephone Christos Panos at (312) 353-8328 before visiting the Region 5 Office.)

Dated: February 6, 2004.
Bharat Mathur,
Acting Regional Administrator, Region 5.

[FR Doc. 04-6215 Filed 3-19-04; 8:45 am]

BILLING CODE 6560-50-P